DEPARTMENT OF EDUCATION

[CFDA Nos.: 84.038, 84.033, and 84.007]

Notice of the 2002-2003 Award Year Deadline Dates for Campus-Based Institutions

SUMMARY: The Secretary announces the 2002-2003 award year deadline dates for institutions to submit various funding and waiver requests and documents under the campus-based programs.

SUPPLEMENTARY INFORMATION: The deadlines provided in this notice are for requesting funding or waivers for the three programs that are collectively known as the campus-based programs. The three programs are the Federal Perkins Loan, Federal Work-Study (FWS), and Federal Supplemental Educational Opportunity Grant (FSEOG) programs.

The Federal Perkins Loan Program encourages institutions to make low-interest, long-term loans to needy undergraduate and graduate students to help pay for their cost of education.

The FWS Program encourages the part-time employment of needy undergraduate and graduate students to help pay for the cost of their education and to involve the students in community service activities.

The FSEOG Program encourages institutions to provide grants to exceptionally needy undergraduate students to help pay for their cost of education.

The Federal Perkins Loan, FWS, and FSEOG programs are authorized by parts E and C, and part A, subpart 3, respectively, of Title IV of the Higher Education Act of 1965, as amended.

Throughout the year, we will provide additional information regarding the individual deadline dates listed in this notice via the Information for Financial Aid Professionals (IFAP) web site: http://www.ifap.ed.gov

Deadline Dates: The following table provides the deadline dates for the campus-based programs for the 2002-2003 award year. Institutions must meet the established deadline dates to ensure consideration for funding or a waiver, as appropriate.

BILLING CODE 4000-01-U

BILLING CODE 4000-01-C

Proof of Delivery of Request and Supporting Documents Submissions Delivered by Mail

If you submit documents by mail when appliable, we accept as proof of mailing one of the following:

(1) A legible mail receipt with the date of mailing stamped by the U.S. Postal Service.

(2) A legible dated U.S. Postal Service postmark.

(3) Other proof of mailing or delivery acceptable to the Secretary.

We do not accept either of the following as proof of mailing: (1) A private metered postmark, or (2) a mail receipt that is not dated by the U.S. Postal Service. Institutions should note that the U.S. Postal Service does not uniformly provide a dated postmark. Before relying on this method, an institution should check with its local post office. Institutions are encouraged to use certified mail.

Submissions Delivered By Hand

If you submit documents by hand when applicable, either in person or by commercial courier, we accept hand deliveries between 8 a.m. and 5 p.m., Eastern time, Monday through Friday except Federal Holidays.

Sources for Detailed Information on These Requests

A more detailed discussion of each request for funds or waiver is provided in a specific “Dear Partner” letter, which is posted on the Department's Web page at least 30 days before the established deadline date for the specific request. Information on these items is also found in the Student Financial Aid Handbook.

Applicable Regulations: The following regulations apply to the campus-based programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Program, 34 CFR part 675.

(5) Federal Supplemental Educational Opportunity Grant Program, 34 CFR part 676.

(6) Institutional Eligibility under the Higher Education Act of 1965, as amended, 34 CFR part 600.

(7) New Restrictions on Lobbying, 34 CFR part 82.

(8) Governmentwide Debarment and Suspension (Nonprocurement) and Governmentwide requirements for Drug-Free Workplace (Grants), 34 CFR part 85.

(9) Drug and Alcohol Abuse Prevention, 34 CFR part 86.

FOR FURTHER INFORMATION CONTACT: Mr. Richard Coppage, Director of Campus-Based Operations at (202) 377-3174 or via Internet: Richard.Coppage@ed.gov

If you use a telecommunications device for the deaf (TDD), you may call the Federal Information Relay Service (FIRS) at 1-800-877-8339.

Individuals with disabilities may obtain this document in an alternative format, (e.g. Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1087aa et seq.; 42 U.S.C. 2751 et seq.; and 20 U.S.C. 1070b et seq.

Dated: July 3, 2002.
Candace M. Kane,
Acting Chief Operating Officer, Federal Student Aid.

[FR Doc. 02-17205 Filed 7-8-02; 8:45 am]

BILLING CODE 4000-01-P